FEDERAL COMMUNICATIONS COMMISSION

Public Information Collections Approved by Office of Management and Budget

January 29, 2008.

SUMMARY: The Federal Communications Commission (FCC) has received Office of Management and Budget (OMB) approval for the following public information collection(s) pursuant to the Paperwork Reduction Act of 1995, 44 U.S.C. 3501-3520. An agency may not conduct or sponsor and a person is not required to respond to a collection of information unless it displays a currently valid control number.

FOR FURTHER INFORMATION CONTACT: Leslie F. Smith, Federal Communications Commission, (202) 418-0217 or via the Internet at Leslie.Smith@fcc.gov.

SUPPLEMENTARY INFORMATION:

OMB Control Number: 3060-0589.

Title: FCC Remittance Advice and Continuation Sheet, Bill for Collection, FCC Remittance Advice for Regulatory Fees (E-Form).

OMB Approval Date: 01/23/2008.

Expiration Date: 01/31/2011.

Form Number(s): FCC Forms 159, 159-C, 159-B, 159-E, and 159-W.

Type of Review: Revision of a currently approved collection.

Respondents: Individuals or households; business or other for-profit; not-for-profit institutions; Federal government; and State, local, or tribal government.

Number of Respondents: 156,000.

Estimated Time per Response: 0.25 hours (15 minutes).

Frequency of Response: On occasion and annual reporting requirements; third party disclosure.

Obligation to Respond: Required to obtain or retain benefits.

Total Annual Burden: 39,000 hours.

Total Annual Cost: None.

Privacy Impact Assessment: No impacts.

Needs and Uses: On August 6, 2007, the FCC released a Report and Order and Further Notice of Proposed Rulemaking (“R&O and FNPRM”), In the Matter of Assessment and Collection of Regulatory Fees for Fiscal Year 2007, MD Docket No. 07-81, FCC 07-XX, in which it applied regulatory fee obligations to interconnected Voice over Internet Protocol (VoIP) providers. As a result of this action, the FCC is modifying FCC Form 159, 159-C, and 159-E to accommodate this new category of entities subject to regulatory fees.

The Commission created a streamlined electronic form, FCC Form 159-E, to associate a mailed or faxed payment with regulatory fees, which are filed on-line. Pertinent information is taken directly from the regulatory fee electronic filing system (Fee Filer) and populated on the FCC Form 159-E, which can be printed by the filer. The FCC Form 159-E, essentially a simple payment voucher, contains summary information, which distinguishes the payment but not detailed information about the fee(s). Specific associated fee information is available on a separate report, which the filer does not need to remit. Beginning with the FY 2005 regulatory fees, the Commission has required FCC Form 159-E to accompany all payments derived from the regulatory fee electronic filing system, except on-line payments, which do not require any paper submission. Payment may be made by check or money order, credit card or wire transfer.

The Commission uses this information to apply credit for the remittance against all regulatory fees within the associated electronic submission. The payment instrument must be in the dollar amount specified on the FCC Form 159-E for full credit to be applied.

Expanded use of the FCC Form 159-E is possible in the future as additional streamlining for this process is implemented. This form may be used in lieu of pre-populated FCC Form 159s, which are currently produced to facilitate remittance for various electronic filings. The FCC Form 159-E may, therefore, impact users of all electronic filing systems, as well as users of an FCC bill paying system (currently Fee Filer and the Red Light Display system). This information collection may affect some individuals or households; however, the Commission has in place a registration process http://www.fcc.gov, which issues a Federal Registration Number (FRN) to each applicant/licensee, etc., for use in filing any of these FCC Forms 159/159-C, 159-B, 159-E, and/or 159-W. As part of the registration process, the applicant/licensee's SSN or TIN is stored in a secure environment, which minimizes any potential privacy risks. The Commission has merged 3060-0949, Interstate Telephone Service Provider Worksheet, FCC Form 159-W, into this information collection, and now that OMB has approved 3060-0589, the Commission intends to cancel 3060-0949.

The FCC bills telecommunications licensees and permittees using the FCC Form 159-W as the invoice. The FCC developed FCC Form 159-W to provide a convenient format for these telecommunications licensees and permittees to verify the information that is extracted from the interstate revenue information (which is already “populated” on this form), to verify the simple calculation of the fee amount that is due, and to correct any inaccuracies as necessary. The FCC uses this form to bill the telecommunications licensee or permittee the amount of its regulatory fee. The FCC is making minor revisions to FCC Form 159-W to provide a clearer format. Respondents may access FCC Form 159-W on-line through the FCC's Web page: http://www.fcc.gov/frnreg if they wish to submit payment prior to being billed.

Federal Communications Commission.
Marlene H. Dortch,
Secretary.

[FR Doc. E8-1975 Filed 2-1-08; 8:45 am]

BILLING CODE 6712-01-P